Title 3—

The President

Proclamation 7487 of October 19, 2001

National Forest Products Week, 2001

By the President of the United States of America

A Proclamation

Our Nation has been blessed with and sustained by its many natural resources. Among these resources, one that has provided us with both vital products and much enjoyment is America's forestland.

Throughout our Nation's history, our forests have provided paper products, construction materials for dwellings and furniture, and fuel for warmth and cooking. Timbers harvested from our lands have been fundamental to the growth and expansion of America. Although our reliance on our forests has changed during the last century, they continue to remain an invaluable resource.

The beautiful cherry wood of Pennsylvania, the mighty oaks of the Midwest, the pines of the South, and the firs of the West are loved by millions of Americans, who find solace and relaxation in camping, hiking, and enjoying recreational activities among these trees. And for many Americans working in the construction, manufacturing, and recreation industries, our forests represent economic security for their families and communities. They serve as important ecosystems, sheltering and feeding wildlife, protecting soil, and purifying water and air. Our timberlands also serve as an important symbol of our Nation's beauty and economic strength. Now, more than ever, we have a responsibility to ensure that they remain healthy and productive.

By working together to develop and promote sensible policies, we can achieve success in protecting these natural resources and pristine areas. My Administration will work closely with Federal, State, and local officials, as well as private landowners to encourage sustainable land management techniques, utilize the latest in scientific research, foster local stewardship of resources, and support innovative methods of pollution control. If we remain vigilant, our forests will provide products, recreation, clean air, clean water, and wildlife habitat for generations to come.

In recognition of the economic, environmental, and recreational importance of our forests, the Congress, by Public Law 86-753 (36 U.S.C. 123), has designated the week beginning on the third Sunday in October of each year as “National Forest Products Week” and has authorized and requested the President to issue a proclamation in observance of this week.

NOW, THEREFORE, I, GEORGE W. BUSH, President of the United States of America, do hereby proclaim October 21 through October 27, 2001, as National Forest Products Week. I call upon all Americans to observe that week with appropriate ceremonies and activities.

IN WITNESS WHEREOF, I have hereunto set my hand this nineteenth day of October, in the year of our Lord two thousand one, and of the Independence of the United States of America the two hundred and twenty-sixth.

B

[FR Doc. 01-27060

Filed 10-24-01; 8:45 am]

Billing code 3195-01-P